DEPARTMENT OF ENERGY

Federal Energy Regulatory Commission

[Docket No. CP10-69-000]

Dominion Transmission, Inc.; Notice of Request Under Blanket Authorization

March 2, 2010.

Take notice that on February 17, 2010, Dominion Transmission, Inc. (Dominion) 120 Tredegar Street, Richmond, Virginia 23219, filed in Docket No. CP10-69-000, an application pursuant to sections 157.205, 157.208(b) and 157.210 of the Commission's Regulations under the Natural Gas Act (NGA) as amended, to construct, install, own, operate, and maintain certain natural gas pipeline and compression facilities in Lewis County, West Virginia, under Dominion's blanket certificate issued in Docket No. CP82-537-000,¹ all as more fully set forth in the application which is on file with the Commission and open to the public for inspection.

¹ 21 FERC ¶ 62,172 (1982).

Dominion proposes to install two 3,550 HP integral Inlet Gas/Residue Gas compression units at the new Light burn Plant in Lewis County, West Virginia. Dominion states that the new compression units would be used (1) to compress inlet gas for the removal of natural gas liquids and (2) to compress the residue gas to increase the pressure which would allow the gas to be discharged through a new outlet pipeline (TL-595) and into Dominion's existing dry transmission pipeline TL-360. Dominion also proposes to construct three new pipelines in Lewis County: Lines TL-593, TL-594, and TL-595. The 16-inch diameter TL-593 pipeline would be approximately 3.55 miles in length and would draw gas from Dominion's existing wet transmission pipelines, Lines TL-514 and TL-427, into the Light burn Plant. The 16-inch diameter TL-594 suction pipeline would be approximately 0.22 mile in length and would also draw gas from Dominion's wet transmission pipelines TL-425 and TL-571 into the Lightburn Plant. The 12-inch diameter TL-595 discharge pipeline would be approximately 0.16 mile in length and would connect the outlet of the Lightburn Plant into the existing TL-360 transmission pipeline. Transmission also proposes to construct ancillary equipment necessary to operate the herein proposed facilities. Dominion further states that the proposed new facilities cost an estimated $14,367,000 to construct.

Any questions concerning this application may be directed to Brad Knisley, Regulatory and Certificate Analyst, Dominion Transmission, Inc., 701 East Cary Street, Richmond, Virginia 23219 or via telephone at (804) 771-4412, facsimile (304) 357-3206, or via E-mail: Brad.A. Knisley@dom.com.

This filing is available for review at the Commission or may be viewed on the Commission's Web site at http://www.ferc.gov, using the “eLibrary” link. Enter the docket number excluding the last three digits in the docket number filed to access the document. For assistance, please contact FERC Online Support at FERC OnlineSupport@ferc.gov or call toll-free at (866) 206-3676, or, for TTY, contact (202)502-8659. Comments, protests and interventions may be filed electronically via the Internet in lieu of paper. See, 18 CFR 385.2001(a)(1)(iii) and the instructions on the Commission's Web site under the “e-Filing” link. The Commission strongly encourages intervenors to file electronically.

Any person or the Commission's staff may, within 60 days after issuance of the instant notice by the Commission, file pursuant to Rule 214 of the Commission's Procedural Rules (18 CFR 385.214) a motion to intervene or notice of intervention and pursuant to section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to section 7 of the NGA.

Kimberly D. Bose,
Secretary.

[FR Doc. 2010-5003 Filed 3-9-10; 8:45 am]

BILLING CODE 6717-01-P